DEPARTMENT OF LABOR

Employment and Training Administration

[TA-W-50,437]

Reliant Bolt, Inc.; Bedford Park, Illinois; Notice of Termination of Investigation

Pursuant to section 221 of the Trade Act of 1974, as amended, an investigation was initiated on January 3, 2003, in response to a worker petition filed by the United Steelworkers of America on behalf of workers at Reliant Bolt, Inc., Bedford Park, Illinois.

The petitioning group of workers is covered by an active certification issued on December 10, 2002 (TA-W-50,001). Consequently, further investigation in this case would serve no purpose and the investigation has been terminated.

Signed in Washington, DC this 9th day of January, 2003.
Richard Church,
Certifying Officer, Division of Trade Adjustment Assistance.

[FR Doc. 03-2554 Filed 2-3-03; 8:45 am]

BILLING CODE 4510-30-P[]